GENERAL SERVICES ADMINISTRATION

[OMB Control No. 3090-0283]

Office of the Chief Information Officer; Submission for OMB Review; Temporary Contractor Information Worksheet

AGENCY: Office of Enterprise Solutions (IA), Office of the Chief Information Officer (OCIO), General Services Administration (GSA).

ACTION: Notice of request for comments regarding a renewal to an existing OMB clearance.

SUMMARY: In accordance with the Paperwork Reduction Act (44 U.S.C. 3501 et seq.), the General Services Administration invites the general public and Federal agencies to comment on the renewal of an information collection request for the collection of personal data to authorize and initiate investigation requests for GSA temporary contractors. GSA requires OMB approval for this collection to make determinations on granting unescorted physical access to GSA-controlled facilities. The approval is critical for GSA to meet the anticipated increase in number of temporary contractors as a result of the American Recovery and Reinvestment Act of 2009 (Pub. L. 111-5). A request for public comments was published in the Federal Register at 74 FR 22930 on May 15, 2009.

Public comments are particularly invited on: Whether this collection of information is necessary and whether it will have practical utility; whether our estimate of the public burden of this collection of information is accurate, and based on valid assumptions and methodology; ways to enhance the quality, utility, and clarity of the information to be collected.

DATES: Submit comments on or before: December 4, 2009.

ADDRESSES: Submit comments regarding this burden estimate or any other aspect of this collection of information, including suggestions for reducing this burden to the GSA Desk Officer, OMB, Room 10236, NEOB, Washington, DC 20503, and a copy to the Regulatory Secretariat (MVPR), General Services Administration, 1800 F Street, NW., Room 4041, Washington, DC 20405. Please cite OMB Control No. 3090-0283, Temporary Contractor Information Worksheet.

FOR FURTHER INFORMATION CONTACT: Mr. William Erwin, Program Manager, HSPD-12 Program Management Office, GSA, 1800 F Street, NW, Washington, DC 20405; or telephone (202) 501-0758. Please cite OMB Control No. 3090-0283, Temporary Contractor Information Worksheet.

SUPPLEMENTARY INFORMATION:

A. Purpose

The U.S. Government conducts criminal checks to establish that applicants or incumbents working for the Government under contract may have unescorted access to GSA-controlled facilities. GSA uses the Temporary Contractor Information Worksheet and the FBI Form FD-258 Fingerprint Card to conduct a FBI National Criminal Information Check (NCIC) for each temporary contractor (working on contract for six (6) months or less and require physical access only) on GSA contracts for American Recovery and Reinvestment Act of 2009 (Pub. L. 111-5) efforts to determine whether to grant unescorted access to GSA-controlled facilities. GSA is anticipating a large influx in temporary contractors due to the American Recovery and Reinvestment Act of 2009. GSA received one public comment during the 60-day comment period. In summary, the comment asked whether the information collected from the form could be collected using an existing form or was necessary to collect. GSA responded directly to the submitter by stating that the form: provides notifications and requests an authorizing signature from GSA temporary contractors on American Recovery and Reinvestment Act of 2009 (ARRA) that other existing forms do not include; requests only data that is required unlike other existing forms; and collects required GSA location, point of contact information not collected through other existing forms.

The Office of Management and Budget (OMB) Guidance M-05-24 for Homeland Security Presidential Directive (HSPD) 12 authorizes Federal departments and agencies to ensure that temporary contractors have limited/controlled access to facilities and information systems. GSA Directive CIO P 2181.1 Homeland Security Presidential Directive-12 Personal Identity Verification and Credentialing (available at http://www.gsa.gov/hspd12) states that GSA temporary contractors must undergo a minimum of a FBI National Criminal Information Check (NCIC) to receive unescorted physical access. Temporary contractors' Social Security Number is needed to keep records accurate, because other people may have the same name and birth date. Executive Order 9397 Numbering System for Federal Accounts Relating to Individual Persons also allows Federal agencies to use this number to help identify individuals in agency records. GSA describes how information will be maintained in the Privacy Act system of record notice published in the Federal Register at 73 FR 35690 on June 24, 2008.

B. Annual Reporting Burden

Respondents: 24,480.

Responses per Respondent: 1.

Hours per Response: .25.

Total Burden Hours: 6,120.

Obtaining Copies of Proposals: Requesters may obtain a copy of the information collection documents from the General Services Administration, Regulatory Secretariat (MVPR), 1800 F Street, NW., Room 4041, Washington, DC 20405, telephone (202) 501-4755. Please cite OMB Control No. 3090-0283, Temporary Contractor Information Worksheet in all correspondence. The form can be downloaded from the GSA Forms Library at http://www.gsa.gov/forms. Type GSA850 in the form search field.

Dated: October 29, 2009.
Casey Coleman,
Chief Information Officer, U.S. General Services Administration.

[FR Doc. E9-26469 Filed 11-3-09; 8:45 am]

BILLING CODE 6820-34-P